DEPARTMENT OF COMMERCE

Foreign-Trade Zones Board

[Order No. 1824]

Reorganization of Foreign-Trade Zone 226 Under Alternative Site Framework Merced County, CA

Pursuant to its authority under the Foreign-Trade Zones Act of June 18, 1934, as amended (19 U.S.C. 81a-81u), the Foreign-Trade Zones Board (the Board) adopts the following Order:

Whereas, the Board adopted the alternative site framework (ASF) (74 FR 1170, 01/12/2009; correction 74 FR 3987, 01/22/2009; 75 FR 71069-71070, 11/22/2010) as an option for the establishment or reorganization of general-purpose zones;

Whereas, the Board of Supervisors of the County of Merced, grantee of Foreign-Trade Zone 226, submitted an application to the Board (FTZ Docket 84-2011, filed 12/23/2011) for authority to reorganize under the ASF with a service area which includes portions of Fresno, Kings, Madera, Mariposa, Merced, Stanislaus and Tulare Counties, California as its service area, as described in the application, within and adjacent to the Fresno U.S. Customs and Border Protection port of entry, and FTZ 226's existing Sites 1, 2, 9, 10 and 11 would be categorized as magnet sites, existing Site 8 would be categorized as a usage-driven site, Sites 3, 4, 6, 7, 12 and 13 would be deleted and acreage reduced at existing Site 1;

Whereas, notice inviting public comment was given in the Federal Register (76 FR 81912-81913, 12/29/2011) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to reorganize FTZ 226 under the alternative site framework is approved, subject to the FTZ Act and the Board's regulations, including Section 400.28, to the Board's standard 2,000-acre activation limit for the overall general-purpose zone project, and to five-year ASF sunset provisions for magnet sites that would terminate authority for Sites 2, 9 10 and 11 if not activated by April 30, 2017, and to a three-year sunset provision for usage-driven sites that would terminate authority for Site 8 if no foreign-status merchandise is admitted for a bona fide customs purpose by April 30, 2015.

Signed at Washington, DC, this 16th day of April 2012.
Paul Piquado,
Assistant Secretary of Commerce for Import Administration, Alternate Chairman Foreign-Trade Zones Board.
ATTEST:
Andrew McGilvray,
Executive Secretary.

[FR Doc. 2012-9821 Filed 4-23-12; 8:45 am]

BILLING CODE P